DEPARTMENT OF ENERGY

Federal Energy Regulatory Commission

[Docket No. CP11-53-000]

Texas Eastern Transmission Company and Dominion Transmission, Inc.; Notice of Application To Amend Certificate of Public Convenience and Necessity

January 5, 2011.

Take notice that on December 14, 2010, Texas Eastern Transmission, LP (Texas Eastern”), 5400 Westheimer Court, Houston, Texas 77056-5310, and Dominion Transmission, Inc. (DTI), 701 East Cary Street, Richmond, Virginia 23219, filed in the above referenced docket an Abbreviated Application to Amend Certificate of Public Convenience and Necessity (Application) pursuant to Section 7 of the Natural Gas Act, as amended, and the regulations of the Federal Energy Regulatory Commission (FERC or Commission) thereunder. By the Application, Texas Eastern and DTI request authorization to amend the certificate to reflect backhaul entitlements on their jointly owned facilities. Texas Eastern and DTI request that the Commission issue a final amended certificate of public convenience and necessity granting the authorizations requested herein as soon as possible and, to the extent feasible, on or before March 14, 2011. The filing is available for review at the Commission in the Public Reference Room or may be viewed on the Commission's Web site at http://www/ferc/gov using the “eLibrary” link. Enter the docket number excluding the last three digits in the docket number filed to access the document. For assistance, contact FERC at FERCOnlineSupport@ferc.gov or call toll-free, (866) 208-3676, or TYY, (202) 502-8659.

Any questions concerning this application may be directed to Berk Donaldson, Director, Rates and Certificates, Texas Eastern Transmission, LP, P.O. Box 1642, Houston, TX 77251-1642, by telephone at (713) 627-4488, by facsimile at (713) 627-5947 or Matthew R. Bley, Manager, Gas Transmission Certificates, Dominion Transmission, Inc., 701 East Cary Street, Richmond, VA 23219, by telephone at (804) 819-2877 or by facsimile at (804) 819-2064.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protest only to the party or parties directly involved in the protest.

For your convenience, there are three methods which you can use to submit your comments to the Commission. In all instances please reference the docket number with your submission. The Commission encourages electronic filing of comments and has expert eFiling staff available to assist you at (202) 502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling you can provide comments in a variety of formats by attaching them as a file with your submission. New eFiling users must first create an account by clicking on “eRegister.” You will be asked to select the type of filing you are making. A comment on a particular project is considered a “Comment on a Filing”; or

(3) You may file a paper copy of your comments at the following address:

Kimberly D. Bose, Secretary, Federal Energy Regulatory Commission, 888 First Street, NE., Room 1A, Washington, DC 20426.

Comment Date: 5 p.m. Eastern Time on January 25, 2011.

Kimberly D. Bose,
Secretary.

[FR Doc. 2011-533 Filed 1-12-11; 8:45 am]

BILLING CODE 6717-01-P